DEPARTMENT OF HEALTH AND HUMAN SERVICES

Centers for Disease Control and Prevention

Board of Scientific Counselors, National Center for Health Statistics (BSC, NCHS)

Correction: This notice was published in the Federal Register on December 29, 2010, Volume 75, Number 249, page 82030. The first day of the meeting was canceled. The time and date of the meeting were as follows:

Time and Date: 8:30 a.m.-2 p.m., January 28, 2011.

There was no change to the matters discussed at the meeting.

Contact Person for More Information: Virginia S. Cain, Ph.D., Director of Extramural Research, NCHS/CDC, 3311 Toledo Road, Room 7211, Hyattsville, Maryland 20782, telephone (301) 458-4500, fax (301) 458-4020.

The Director, Management Analysis and Services Office, has been delegated the authority to sign Federal Register notices pertaining to announcements of meetings and other committee management activities, for both the Centers for Disease Control and Prevention, and the Agency for Toxic Substances and Disease Registry.

Dated: February 9, 2011.
Elaine L. Baker,
Management Analysis and Services Office, Centers for Disease Control and Prevention.

[FR Doc. 2011-3533 Filed 2-15-11; 8:45 am]

BILLING CODE 4163-18-P